DEPARTMENT OF LABOR

Office of the Secretary

International HIV/AIDS Workplace Education Program

AGENCY: Bureau of International Labor Affairs, Department of Labor.

ACTION: Notice of availability of funds and solicitation for cooperative agreement applications (SGA 02-11).

This Notice contains all of the necessary information and forms needed to apply for cooperative agreement funding.

SUMMARY: The U.S. Department of Labor (USDOL), Bureau of International Labor Affairs (ILAB), will award funds in one or more cooperative agreements to an organization or organizations to develop and implement HIV/AIDS/STI/TB ¹ workplace education projects in West Africa (Benin, Ghana and Togo), the Caribbean (Guyana and Belize), Namibia, Mozambique and Cambodia. USDOL will also award funds to an organization to develop and implement a pilot project focused on workforce development in Malawi aimed at improving the income generating skills of young adults affected by human immunodeficiency virus/acquired immune deficiency syndrome (HIV/AIDS). USDOL is seeking applications from qualified organizations for the implementation of workplace HIV/AIDS prevention and education programs and a strategy for addressing the issue of stigma and discrimination against people living with HIV/AIDS in the workplace. Applicants will submit one proposal for the implementation of all six projects. USDOL, however, reserves the right to award more than one cooperative agreement for the implementation of the projects.

¹ It has been widely recognized that the success of any HIV/AIDS prevention education project is greatly enhanced by including information on sexually transmitted infections (STI), and tuberculosis (TB). Although the term “HIV/AIDS” will be used throughout this Federal Register Notice, it is expected that the issues of STI and TB will be addressed within the context of the application and implementation of the program.

DATE: The closing date for receipt of applications is August 27, 2002. Applications must be received by 4:45 p.m. (Eastern Daylight Savings Time) at the address below. No exceptions to the mailing, delivery, and hand-delivery conditions set forth in this notice will be granted. Applications that do not meet the conditions set forth in this notice will not be honored.

ADDRESS: Application forms will not be mailed. They are published in this Federal Register Notice, and in the Federal Register which may be obtained from your nearest U.S. Government office, public library or on-line at ­http://www.nara.gov/fedreg/nfpubs.html. Applications must be delivered to: U.S. Department of Labor, Procurement Services Center, 200 Constitution Avenue, NW., Room N-5416, Attention: Lisa Harvey, Reference: SGA 02-11, Washington, DC 20210. Applications sent by e-mail, telegram, or facsimile (FAX) will not be accepted. Applications sent by other delivery services, such as Federal Express, UPS, etc., will be accepted; however, the applicant bears the responsibility for timely submission.

FOR FURTHER INFORMATION CONTACT: Lisa Harvey: E-mail address: harvey-lisa@dol.gov. All applicants are advised that U.S. mail delivery in the Washington, DC area has been slow and erratic due to the recent concerns involving anthrax contamination. All applicants must take this into consideration when preparing to meet the application deadline. It is recommended that you confirm receipt of your application by contacting Lisa Harvey, U.S. Department of Labor, Procurement Services Center, telephone (202) 693-4570 (this it not a toll free number), prior to the closing deadline. All inquiries should reference SGA 02-11. See Section III.B for further information.

SUPPLEMENTARY INFORMATION: ILAB's Office of Foreign Relations (OFR) carries out a worldwide international technical assistance program in support of three objectives: (1) Expanding Economic Opportunity and Income Security for Workers; (2) Protecting the Basic Rights of Workers; and (3) Reducing the Prevalence of HIV/AIDS through Workplace Education. This SGA seeks one or more eligible and qualified organizations to develop and implement projects supporting objective three, reducing the prevalence of HIV/AIDS through workplace education. ILAB announces the availability of funds to be granted by cooperative agreement to one or more qualifying organizations to achieve the USDOL HIV/AIDS program objectives to: (1) Reduce the spread of human immunodeficiency virus/acquired immune deficiency syndrome (HIV/AIDS) and (2) eliminate discrimination in employment against individuals infected with HIV/AIDS through a global workplace prevention and education program. The cooperative agreement(s) will also include a pilot project aimed at improving the workforce development capacity in Malawi for young adults affected by HIV/AIDS. As young adults enter the workforce, many remain unaware of accurate information regarding methods of HIV/AIDS/STI/TB infections. Considering the need for skilled workers in future years, USDOL is proposing to fund through this program a pilot-project aimed at strengthening existing local institutions which provide young adults affected by HIV/AIDS with income generating skills, HIV/AIDS prevention information and care and support services. The project also will target the growing numbers of young people who are subject to increasing pressure to leave school and work to care for sick parents and younger siblings, becoming heads of households at an early age.

The cooperative agreement(s) is to be actively managed by ILAB's Office of Foreign Relations to assure achievement of the stated objectives. Applicants are encouraged to be creative in proposing innovative and cost-effective interventions that will have a demonstrable impact on the HIV/AIDS infection rate and the level of discrimination in employment against individuals infected with HIV/AIDS.

I. Background and Program Scope

A. The International HIV/AIDS Pandemic

According to UNAIDS,² more than 60 million people have been infected with the HIV/AIDS virus, since the epidemic began. HIV/AIDS is now the leading cause of death in sub-Saharan Africa. In many parts of the developing world, the majority of new infections occur in young adults, with young women especially vulnerable. About one-third of those currently living with HIV/AIDS are aged 15-24. Although HIV/AIDS was initially viewed as strictly a health crisis, it is now acknowledged to have a severe impact on the economic and social development of the affected countries.

² The Joint United Nation's Program on HIV/AIDS.

Recent studies on HIV/AIDS in the workforce warn of the catastrophic consequences of HIV/AIDS/STI/TB for workers and employers worldwide, projecting a severe decline in the size and quality of the workforce in a number of countries over the next 20 years. Countries with the most infected populations in sub-Saharan Africa could lose 29-35% of their total labor force by 2020. Due to the disproportionate effect of HIV/AIDS on the 15-49 year age group, the most economically active segment of society is affected most severely. Moreover, the stigma and discrimination that surround those suffering from the disease contribute to the high prevalence rate by perpetuating misinformation and preventing people from seeking help. As a result, the International Labor Organization estimates that in the case of countries with HIV prevalence rates higher than 10% of the adult population, the labor force in the year 2020 will be an estimated 10-22% smaller than it would have been if there had been no HIV/AIDS. The impact has already eradicated the small gains in economic growth and stability that some sub-Saharan African countries had experienced.

The severity of the AIDS pandemic is generating orphans so quickly that family structures can no longer cope. Traditional safety nets are unraveling as more young adults die of AIDS related illnesses. Typically, half of the people with HIV become infected before they turn 25, acquiring AIDS and dying by the time they turn 35, leaving behind a generation of children to be raised by their grandparents or left on their own in child-headed households. More than 12,100,000 children have been orphaned by AIDS in Africa, accounting for more than 95% of the world's AIDS' orphan population. The extended family network in sub-Saharan Africa is an age-old social safety net for such children, which has long proved itself resilient even to major social changes. Capacity and resources, however, are now stretched to the breaking point. Those providing the necessary care in many cases are already impoverished, leaving behind vulnerable children and young adults who are forced to leave school to fend for themselves and often become child heads of households. The crisis directly impacts the workforce of the future.³

³ AIDS Epidemic: Update 2000 and Report on the Global HIV/AIDS Epidemic, June 2000: UNAIDS, Joint Program on HIV/AIDS; Children Orphaned by AIDS, UNICEF, December 1999.

II. Authority

USDOL is authorized to award and administer this program by the Department of Labor, Health and Human Services and Education, and Related Agencies Appropriations Act, 2002, Pub. L. 107-116, 115 Stat. 2177 (2001).

III. Application Process

A. Eligible Applicants

Any commercial, international, or non-profit organization capable of successfully implementing HIV/AIDS workplace prevention and education programs on a global scale, and successfully working with labor ministries, employers and labor groups to reduce the spread of HIV/AIDS and help eliminate discrimination in employment relating to HIV/AIDS is eligible for this cooperative agreement. Partnerships of more than one organization are also eligible, although in such a case a lead organization must be identified. The capability of an applicant and partners and co-applicants to perform necessary aspects of this solicitation will be determined under Section V.B Rating Criteria.

Please Note That Eligible Cooperative Agreement Applicants Must Not be Classified Under The Internal Revenue Code as a Section 501(c)(4) Entity. See 26 U.S.C. 501(c)(4). According to section 18 of the Lobbying Disclosure Act of 1995, an organization, as described in section 501(c)(4) of the Internal Revenue Code of 1986, that engages in lobbying activities will not be eligible for the receipt of federal funds constituting an award, grant, or loan.

B. Submission of Applications

One (1) ink-signed original, complete application plus two (2) copies of the proposal must be submitted to the U.S. Department of Labor, Procurement Services Center, 200 Constitution Avenue, NW, Room N-5416, Washington, DC 20210, not later than 4:45 p.m. EDT, August 27, 2002. To aid with review of applications, USDOL also encourages applicants to submit two additional paper copies of the application (five total). Applicants who do not provide additional copies will not be penalized.

The application must consist of two (2) separate parts. Part I of the application must contain the Standard Form (SF) 424, “Application for Federal Assistance” (Appendix A) (The entry on SF 424 for the Catalog of Federal Domestic Assistance Number (CFDA) is 17.700) and sections A-F of the Budget Information Form SF 424A (Appendix B). Part II must contain a technical proposal that demonstrates capabilities in accordance with the Statement of Work and the selection criteria.

To be considered responsive to this solicitation, the application must consist of the above-mentioned separate sections not to exceed 40 single-sided (8½″ × 11″), double-spaced, 10 to 12 pitch typed pages for which a response is submitted. Any Applications That do Not Conform to These Standards May be Deemed Non-Responsive to This Solicitation and May Not be Evaluated. Standard forms and attachments are not included in the page limit. The application must include a table of contents and an abstract summarizing the application in not more than two (2) pages. These pages are also not included in the page limits.

Upon completion of negotiations, the individual signing the SF 424 on behalf of the applicant must be authorized to bind the applicant.

C. Acceptable Methods of Submission

The grant application package must be received at the designated place by the date and time specified or it will not be considered. Any application received at the Office of Procurement Services after 4:45 pm ET August 27, 2002, will not be considered unless it is received before the award is made and:

1. It was sent by registered or certified mail not later than the fifth calendar day before August 27, 2002;

2. It is determined by the Government that the late receipt was due solely to mishandling by the Government after receipt at the U.S. Department of Labor at the address indicated; or

3. It was sent by U.S. Postal Service Express Mail Next Day Service-Post Office to Addressee, not later than 5:00 pm at the place of mailing two (2) working days, excluding weekends and Federal holidays, prior to August 27, 2002.

The only acceptable evidence to establish the date of mailing of a late application sent by registered or certified mail is the U.S. Postal Service postmark on the envelope or wrapper and on the original receipt from the U.S. Postal Service. If the postmark is not legible, an application received after the above closing time and date shall be processed as if mailed late. “Postmark” means a printed, stamped or otherwise placed impression (not a postage meter machine impression) that is readily identifiable without further action as having been applied and affixed by an employee of the U.S. Postal Service on the date of mailing. Therefore applicants should request that the postal clerk place a legible hand cancellation “bull's eye” postmark on both the receipt and the envelope or wrapper.

The only acceptable evidence to establish the date of mailing of a late application sent by U.S. Postal Service Express Mail Next Day Service-Post Office to Addressee is the date entered by the Post Office receiving clerk on the “Express Mail Next Day Service-Post Office to Addressee” label and the postmark on the envelope or wrapper and on the original receipt from the U.S. Postal Service. “Postmark” has the same meaning as defined above. Therefore, applicants should request that the postal clerk place a legible hand cancellation “bull's-eye” postmark on both the receipt and the envelope or wrapper.

Applications sent by e-mail, telegram, or facsimile (FAX) will not be accepted. Applications sent by other delivery services, such as Federal Express, UPS, etc., will be accepted, however, the applicant bears the responsibility for timely submission. Because of delay in the receipt of mail in the Washington, DC area, it is recommended that you confirm receipt of your application by contacting Lisa Harvey, U.S. Department of Labor, Procurement Services Center, telephone (202) 693-4570 (this is not a toll-free number), prior to the closing deadline. All inquires should reference SGA 02-11.

D. Funding Levels

Approximately U.S. $8.3 million is budgeted for this program, to fund projects, one in West Africa (Benin, Ghana and Togo), one in the Caribbean (Guyana and Belize), and one each in Namibia, Mozambique, Cambodia and Malawi. Although USDOL reserves the right to award more than one cooperative agreement, a partnership of more than one organization may apply to implement the program. Applicants will submit one application for the implementation of all six projects and are encouraged to utilize local NGO's to implement much of the program in order to institutionalize and sustain project improvements and reduce costs. The award of any sub-contract to a local NGO will be subject to USDOL approval (See Section B above).

E. Program Duration

The duration of the project(s) funded by this SGA is four (4) years. The start date of project activities will be negotiated upon the awarding of the cooperative agreement.

IV. Requirements

A. Statement of Work

In developing their proposals, potential cooperative agreement recipients should develop a strategy for implementation of the project objectives to reduce the spread of human immunodeficiency virus/acquired immune deficiency syndrome (HIV/AIDS) and eliminate discrimination in employment against individuals infected with HIV/AIDS/STI/TB through a global workplace prevention and education program. The strategy should take into account the implementing environment in the selected countries and incorporate innovative methodologies for targeting employers and employees. The strategy should also demonstrate how the applicant proposes to involve employer organizations, labor organizations, and Ministries of Labor in the implementation of the project. The applicant should draft a strategy demonstrating how it will meet the project objectives by the end of the grant period, and how the issue of sustainability will be integral to project implementation. The applicant must present a strategy to demonstrate that 80% of the target group exhibits an awareness of accurate information regarding HIV/AIDS/STI/TB prevention and methods of infection; at least 50% of the target group undertakes responsible behavior at the conclusion of the grant; and 60% of targeted employers have developed and implemented workplace policies aimed at decreasing discriminatory workplace practices in both public and private sectors.

The applicant should include a basis on which the target groups will be established (e.g. target industries, regions or age groups), outline the information, education, and communication (IEC) materials that will be used as well as a strategy for translating HIV/AIDS/STI/TB awareness to responsible behavior change. The strategy should seek to reduce the stigma of HIV/AIDS at the national, enterprise and community level. In addition, the applicant should develop sustainable innovative strategies for involving government, employers' and workers' organizations, and nongovernmental organizations, as appropriate, in the development, implementation and enforcement of appropriate workplace policies at the national and enterprise levels aimed at decreasing discriminatory workplace practices in both public and private sectors; and help ensure that at least 60% of targeted enterprises have such workplace policies and practices in place by the end of the grant period.

Workforce Development for Young Adults Affected by HIV/AIDS/STI/TB in Malawi

The applicant should reflect an understanding of the challenges facing Malawi with regard to workforce development and HIV/AIDS/STI/TB. The applicants will develop an approach that will meet the overall development needs of the identified target beneficiaries in order to facilitate entrance of skilled workers into the workforce. The applicant will propose innovative and cost-effective strategies working through existing local institutions to support the following objectives: (1) Enable young adults affected by HIV/AIDS to obtain job skills training and follow-up assistance with income generation; (2) Mobilize a wide array of stakeholders to improve and expand the workforce training infrastructure; (3) Encourage responsible behavior change through increased awareness and correct knowledge of HIV/AIDS/STI/TB and methods of infection among the target population; and (4) Provide psychosocial support for the identified target group. The application should also incorporate a strategy for collaborating with other donors to assist in the long-term sustainability of these efforts and illustrate methods for innovative behavior change interventions, as well as including young women in the workforce target group, with a framework for providing an enabling environment for women to obtain income generating skills.

The organization awarded the cooperative agreement(s) (hereinafter referred to as the “grantee”) will be required to work cooperatively with stakeholders in the countries, including Ministries/Departments of Education and Labor, trade unions, employer organizations, and other relevant partners to identify the number and location of target groups, gather and correlate knowledge, attitude, and behavior survey data, and assess level of capacity and infrastructure of targeted groups and geographic locations.

B. Deliverables

Following the award of the cooperative agreement(s), unless otherwise indicated, the applicant must submit copies of all required reports to USDOL by the specified due dates. Other documents, such as project designs, are to be submitted by mutually agreed-upon deadlines.

1. Project Designs. The grantee(s) will travel to each country with USDOL officials on a project design mission trip, draft the design, and submit a project document in the format established by USDOL, to include a background/justification section, project strategy (objectives, outputs, activities, indicators), project implementation timetable, project management organizational chart, project budget, logical framework and performance monitoring plan to systematically monitor project results. The document will also include sections, which cover coordination strategies, project management, and sustainability of project improvements involving government, employers' and workers' organizations as well as other nongovernmental organizations as appropriate. Each project design will be drawn, in part, from the proposal written in response to this solicitation.

2. Trip Reports. Within ten (10) days of the conclusion of each field mission, a two-page trip report (exclusive of contact information) will be submitted to USDOL, including purpose of trip, places and dates, list of meetings, site visits, problems encountered, accomplishments, next steps, and an appendix of names and contact information of persons met.

3. Technical Progress Reports. The grantee(s) must furnish a typed technical report to USDOL on a quarterly basis, no later than 15 days from the last date of each quarter, e.g., 31 March, 30 June, 30 September and 31 December of each year. The second and fourth quarter reports are abbreviated and need only indicate whether the work plan was fully implemented and if not, explain why not and attach the amended work plan. The grantee(s) must also furnish a separate financial report (SF 242) to USDOL on the same quarterly basis. The format for the technical progress report will be the standard format developed by USDOL and must contain the following information:

a. For each project objective, an accurate account of activities carried out under that objective during the reporting period as it relates to the work plan;

b. Major trends in the project that note particular success with a particular activity or trends that indicate a need to re-adjust or expand the work plan;

c. An account of problems, proposed solutions, actions taken or required regarding implementation of the project;

d. New proposals for activities, staffing, funding, etc;

e. Lessons learned in project implementation;

f. Future actions planned in support of each project objective;

g. An accounting of staff and any sub-contractor hours expended;

h. Expenditures vs. Budget;

i. An accounting of travel performed under the cooperative agreement during the reporting period, including purpose of trip, persons or organizations contacted, and benefits derived; and

j. Aggregate amount of costs incurred during the reporting period.

4. Annual Work Plan. An annual work plan for each project will be submitted within 45 days after the approval of the project design by USDOL. Subsequent annual work plans will be delivered as and when amended to reflect modifications in implementation, no later than one year following submission of previous work plan; or to reflect amendments based on recommendations made during mid-term evaluations, no later than 30 days following the mid-term evaluation.

5. Monitoring and Evaluation. A performance monitoring plan will be developed in collaboration with USDOL, including beginning and ending dates for projects, planned and actual dates for mid-term and final project evaluations and included as part of the submission of the project document for USDOL approval. The monitoring plan will be prepared after completion of baseline surveys, including revision of indicators provided in project documents. The plan will include performance indicators and instruments to collect and report on performance data on a semi-annual basis.

6. Evaluation Reports. The Grant Officer's Technical Representative (GOTR) will determine on a case-by-case basis whether mid-term evaluations will be conducted by an internal or external evaluation team. All final evaluations will be external in nature. The grantee(s) must respond to any comments and recommendations resulting from the review of the mid-term report and will submit a work plan for implementing the recommendations of the mid-term report within 15 days following formal submission of the report to the grantee(s) by USDOL.

C. Production of Deliverables

Materials Prepared and Purchased Under the Cooperative Agreement. The grantee(s) must submit to USDOL all media-related and educational materials developed under this cooperative agreement(s), including relevant press releases, for use in this project(s) before they are reproduced, published, or used. The grantee(s) must consult with USDOL to ensure that materials are compatible with USDOL materials relating to the program, e.g., public relations material such as video and web site. USDOL considers brochures, pamphlets, videotapes, slide-tape shows, curricula, and any other training materials used in the program, educational materials. USDOL will review materials for technical accuracy. USDOL will also review training curricula and purchased training materials for accuracy before they are used. The grantee(s) must obtain prior approval from the Grant Officer for all materials developed or purchased under this cooperative agreement(s). All materials produced by grantee(s) must be provided to USDOL in a digital format for possible publication on the Internet by USDOL.

Acknowledgment of USDOL Funding. In all circumstances, the following must be displayed on printed materials:

“Preparation of this item was funded by the United States Department of Labor under Cooperative Agreement No. [insert the appropriate cooperative agreement number].

When issuing statements, press releases, requests for proposals, bid solicitations, and other documents describing projects or programs funded in whole or in part with Federal money, all grantees receiving Federal funds, including State and local governments and recipients of research grants, must clearly state:

a. The percentage of the total costs of the program or project, which will be financed with Federal money;

b. The dollar amount of Federal funds for the project or program; and

c. The percentage and dollar amount of the total costs of the project or program that will be financed by non-governmental sources.

In consultation with USDOL, identification of USDOL's role will be determined to be one of the following:

a. The USDOL logo may be applied to USDOL-funded material prepared for world-wide distribution, including posters, videos, pamphlets, research documents, national survey results, impact evaluations, best practice reports, and other publications of global interest. The grantee(s) will consult with USDOL on whether the logo should be used on any such items prior to final draft or final preparation for distribution. In no event shall the USDOL logo be placed on any item until USDOL has given the grantee written permission to use the logo, after obtaining appropriate internal USDOL approval for use of the logo on the item.

b. If the USDOL determines the logo is not appropriate and does not give written permission, the following notice must appear on the document:

“This document does not necessarily reflect the views or policies of the U.S. Department of Labor, nor does mention of trade names, commercial products, or organizations imply endorsement by the U.S. Government.”

D. Administrative Requirements

1. General. Grantee organizations will be subject to applicable Federal laws (including provisions of appropriations law) and the applicable Office of Management and Budget (OMB) Circulars. Determinations of allowable costs will be made in accordance with the applicable Federal cost principles, e.g. Non-Profit Organizations—OMB Circular A-122. The cooperative agreement(s) awarded under this SGA will be subject to the following administrative standards and provisions, if applicable:

29 CFR Part 36—Federal Standards for Nondiscrimination on the Basis of Sex in Education Programs or Activities Receiving Federal Financial Assistance.

29 CFR Part 93—New Restrictions on Lobbying.

29 CFR Part 95—Uniform Administrative Requirements for Grants and Agreements with Institutions of Higher Education, Hospitals and Other Non-Profit Organizations, and with Commercial Organizations, Foreign Governments, Organizations Under the Jurisdiction of Foreign Governments and International Organizations.

29 CFR Part 96—Federal Standards for Audit of Federally Funded Grants, Contracts and Agreements.

29 CFR Part 98—Federal Standards for Government wide Debarment and Suspension (Nonprocurement) and Governmentwide Requirements for Drug-Free Workplace (Grants).

29 CRF Part 99—Federal Standards for Audits of States, Local Governments, and Non-Profit Organizations.

1. Sub-contracts. Sub-contracts and contracts must be awarded in accordance with 29 CFR 95.40-48. In compliance with Executive Orders 12876 as amended, 13230, 12928, 13021 as amended and 13198 as amended, the grantee(s) is strongly encouraged to provide sub-contracting opportunities to Historically Black Colleges and Universities, Hispanic-Serving Institutions and Tribal Colleges and Universities.

2. Key Personnel. The applicant must list the individual(s) who has (have) been designated as having primary responsibility for the conduct and completion of all work in project(s) it proposes. The grantee(s) agrees to inform the GOTR whenever it appears impossible for one or more of these individual(s) to continue work on the project as planned. The grantee(s) may nominate substitute personnel for approval of the GOTR; however, the grantee(s) must obtain prior approval from the Grant Officer for all key personnel. If the Grant Officer determines not to approve the personnel change, he/she reserves the right to terminate the cooperative agreement.

3. Encumbrance of Cooperative Agreement Funds. Cooperative agreement funds may not be encumbered/obligated by the grantee(s) before or after the cooperative agreement period of performance. Encumbrances/obligations outstanding as of the end of the cooperative agreement period may be liquidated (paid out) after the end of the cooperative agreement period. Such encumbrances/obligations may involve only commitments for which a need existed during the cooperative agreement period and which are supported by approved contracts, purchase orders, requisitions, invoices, bills, or other evidence of liability consistent with the grantee(s)'s purchasing procedures and incurred within the cooperative agreement period. All encumbrances/obligations incurred during the cooperative agreement period must be liquidated within 90 days after the end of the cooperative agreement period, if practicable.

5. Site Visits. USDOL, through its authorized representatives, has the right, at all reasonable times, to make site visits to review project accomplishments and management control systems and to provide such technical assistance as may be required. If USDOL makes any site visit on the premises of the grantee(s) or a sub-contractor(s) under this cooperative agreement(s), the grantee(s) must provide and must require its sub-contractors to provide all reasonable facilities and assistance for the safety and convenience of the Government representatives in the performance of their duties. All site visits and evaluations must be performed in such a manner as will not unduly delay the work.

V. Review and Selection of Applications for Cooperative Agreement Award

A. The Review Process

USDOL will screen all applications to determine whether all required elements are present and clearly identifiable. A technical panel will objectively rate each complete application against the criteria described in this announcement. The panel recommendations to the Grant Officer are advisory in nature. The Grant Officer may elect to select one or more grantees on the basis of the initial proposal submission; or, the Grant Officer may establish a competitive or technically acceptable range for the purpose of selecting qualified applicants. If deemed appropriate, following the Grant Officer's call for the preparation and receipt of final revisions of proposals, the evaluation process described above will be repeated to consider such revisions. The Grant Officer will make a final selection determination based on what is most advantageous to the Government, considering factors such as panel findings, geographic presence of the applicants, and the availability of funds. The Grant Officer's determination for award under this SGA 02-11 is final.

Notice: Selection of an organization as a cooperative agreement recipient does not constitute approval of the cooperative agreement application as submitted. Before the actual cooperative agreement is awarded, the Grant Officer will enter into negotiations concerning such items as program components, funding levels, and administrative systems. If the negotiations do not result in an acceptable submission, the Grant Officer reserves the right to terminate the negotiation and decline to fund the proposal.

B. Rating Criteria and Selection

The technical panel will review applicants against the criteria listed below on the basis of 100 points with up to additional five points available for non-federal or leveraged resources.

The criteria are presented in the order of emphasis that they will receive.

1. Approach, Understanding of the Issue, and Budget Plan (50 points).

a. Overview. This section of the proposal must explain the strategy employed by the applicant to achieve the following results:

(1) The applicant's proposed method for demonstrating that 80% of the targeted population exhibits knowledge of accurate information regarding HIV/AIDS/STI/TB prevention and methods of infection;

(2) The applicant's proposed method for achieving responsible behavior among 50% of the targeted population in support of reducing the spread of the HIV/AIDS virus;

(3) Development and implementation of workplace policies designed to reduce discrimination of HIV/AIDS infected workers in 60% of targeted worksites; and

(4) The other expected outcomes over the period of performance for each of the tasks.

The applicant must describe in detail the proposed approach to comply with each requirement in Section IV.A of this solicitation, including all tasks and methods to be utilized to implement the project. Also, the applicant must explain the rationale for using this approach. In addition, this section of the proposal must demonstrate the applicant's thorough knowledge and understanding of the impact of HIV/AIDS on the workplace, best-practice solutions to the problem, working with the tripartite partners, and work that has been done in the field as applied to the country or countries that are the focus of this program.

b. Logical Framework The strategy should include an outline of the objectives, activities and indicators envisioned for implementation of the program.

c. Implementation Plan The applicant must submit an implementation plan for the entire program, preferably with a visual such as a Gantt chart. The implementation plan should outline the approach that will be used to implement the program. The plan should list the activities envisioned for the life of the program as well as scheduling of activities by objective starting with the execution of the cooperative agreement and ending with the final report. In describing the implementation plan, the applicant must address the following points:

(1) Describe the use of existing or potential infrastructure and use of qualified personnel, including qualified nationals, to implement the projects in West Africa (Benin, Ghana and Togo), the Caribbean (Guyana and Belize), Namibia, Mozambique, Cambodia and Malawi. One chart for the entire program is acceptable if the approach will be uniform in all project countries. The applicant also must include a project organizational chart, demonstrating management structure, key personnel positions and indicating proposed links with the relevant Government ministries, employer organizations, trade unions and other significant local actors.

(2) Develop a list of activities and explain how each relates to the overall development objective of reducing the rate of HIV/AIDS infection through workplace prevention and education programs and creating a supportive workplace environment for people living with HIV/AIDS.

(3) Explain how appropriate IEC materials and training curriculum will be developed.

(4) Explain the strategy for providing HIV/AIDS prevention and education program in the workplace. Outline how the tripartite partners will be involved in the implementation of this component.

(5) Explain the strategy for assisting business and labor to develop appropriate workplace policy statements to address issues stemming from the stigma and discrimination associated with HIV/AIDS.

(6) Demonstrate how the applicant will strengthen national institutions and policies on HIV/AIDS and discrimination in the workplace.

(7) Demonstrate how the applicant will systematically report on project performance to measure the achievement of the project objective(s).

(8) Demonstrate how the applicant will build the national and local capacity to ensure that project efforts to reduce the incidence of HIV/AIDS in the workplace are sustained after completion of the project.

(9) For Malawi only, describe the strategy to expand access to job skills training and employment for young adults affected by HIV/AIDS, work with local stakeholders to address the needs of young adults affected by HIV/AIDS in the workforce and prepare an HIV/AIDS prevention program for the target population in Malawi that results in responsible behavior change among the targeted population.

d. Management and Staff Loading Plan. The management plan must also include a management and staff loading plan. The management plan should include the following:

(1) A project organization chart and accompanying narrative which differentiates between elements of the applicant's staff and sub-contractors or consultants who will be retained;

(2) A description of the functional relationship between elements of the project's organization; and (3)The identity of the individual responsible for project management and the lines of authority between this individual and other elements of the project.

The staff loading plan must identify all key tasks and the person-days required to complete each task. Labor estimates for each task must be broken down by individuals assigned to the task, including sub-contractors and consultants. All key tasks must be charted to show time required to perform them by months or weeks.

This section will be evaluated in accordance with applicable Federal laws and regulations. The budget must comply with Federal cost principles (which can be found in the applicable OMB Circulars) and with ILAB budget requirements contained in the application instructions in Section III of this solicitation.

e. Budget Plan The applicant must develop one proposed budget for implementation of projects in all six countries. This section of the application must explain the costs for performing all of the requirements presented in this solicitation and for producing all required reports and other deliverables presented in this solicitation; costs must include labor, training, material production and dissemination, equipment, travel and other related costs. The budget plan will be evaluated solely for the purpose of determining the efficient and effective allocation of funding for proposed program implementation. Preference may be given to applicants with low administrative costs. Administrative costs shall be reflected separately on the budget plan from programmatic costs.

2. Experience and Qualifications of the Applicant (25 points)

The evaluation criteria in this category are as follows:

a. The applicant, including any partners or co-applicants, must demonstrate experience with HIV/AIDS/STI/TB prevention; working directly with government Ministries, employers' organizations, trade unionists and other local organizations e.g. community based or faith based groups; analyzing labor law relating to discrimination; developing workplace policy statements addressing issues relating to discrimination; and implementing workplace education programs either in the country or countries in which it proposes project(s) or that it has broad experience of working with such entities, with experience in the above areas. Organizations applying in partnership or as co-applicants must submit a signed letter of agreement between the parties verifying the intention of the parties to work together to implement the program. The partnership agreement must include a designation for the lead organization.

b. The capability of the applicant(s) for the workforce development project may be demonstrated by one or more staff members assigned to oversee the project with experience in the following area:

(1) Workforce Development or Human Capacity Development;

(2) Coordinating with the Ministries of Labor and Education, Employer Organizations, non-governmental organizations and Trade Union officials; and

(3) Providing HIV/AIDS prevention and HIV/AIDS psychosocial services to young adults.

c. The applicant(s) must also demonstrate either that it has an international system of operations either by affiliates or by agreement in the regions identified in Section I.B or that it has an effective system of operations in each designated country. These contacts must enable the applicant(s) to demonstrate that it can perform in the above-mentioned countries.

d. The applicant must include information regarding previous grants, contracts or cooperative agreements. This information must include:

(1) The organization for whom the work was done;

(2) A contact person in that organization with his/her current phone number;

(3) The dollar value of the grant, contract or cooperative agreement for the project(s);

(4) The time frame and professional effort involved in the project(s);

(5) A brief summary of the work performed; and

(6) A brief summary of accomplishments.

This information on previous grants and contracts shall be provided in appendices and will not count in the 40-page maximum page requirement.

3. Experience and Qualifications of Key Personnel (25 points)

This section of the application must include sufficient information for judging the quality and the competence of key staff proposed to be assigned to the project(s) proposed to assure that they meet the required qualifications. Successful performance of the proposed work depends heavily on the qualifications of the individuals committed to the program. Accordingly, in its evaluation of the applicant's proposal, USDOL will place emphasis on the applicant's commitment of key personnel qualified for the work involved in accomplishing the assigned tasks. Information provided on the experience and educational background of personnel must indicate the following:

a. The identity of key personnel assigned to the project. “Key personnel” are staff who are essential to the successful operation of the project and completion of the proposed work and, therefore, may not be replaced or have their hours reduced without the approval of the Grant Officer.

b. The educational background and experience of all staff to be assigned to the project.

c. The special capabilities of staff that demonstrate prior experience in organizing, managing and performing similar efforts.

d. The current employment status of staff and availability for this project. The applicant must also indicate whether the proposed work will be performed by persons currently employed or is dependent upon planned recruitment or sub-contracting.

Note that management and professional technical staff members comprising the applicant's proposed team should be individuals who have prior experience with organizations working in similar efforts, and are fully qualified to perform work specified in the Statement of Work. Where sub-contractors or outside assistance is proposed, organizational control should be clearly delineated to ensure responsiveness to the needs of USDOL. Key personnel must sign letters of agreement to serve on the project, and indicate availability to commence work within three weeks of grant award. The following information must be furnished:

a. The applicant must designate a Program Director to oversee the project(s) and other key personnel to perform the requirements for the International HIV/AIDS Workplace Education Program and Malawi workforce development program for young adults affected by HIV/AIDS. The Program Director must have a minimum of three years of professional experience in a leadership role in implementation of complex HIV/AIDS/STI/TB prevention and education programs in developing countries in areas such as behavior change intervention, development of IEC materials, HIV/AIDS policy development, and monitoring and evaluation of HIV/AIDS projects.

b. The applicant should specify other personnel proposed to carry out the requirements of this solicitation.

c. An organization chart showing the applicant's proposed organizational structure for performing task requirements for the project(s) proposed, along with a description of the roles and responsibilities of all key personnel proposed for this project(s). The chart should also differentiate between elements of the applicant's staff and sub-contractors or consultants who will be retained.

d. The applicant must identify all key tasks and the person-days required to complete each task. Labor estimates for each task must be broken down by individuals assigned to the task, including sub-contractors and consultants. All key tasks must be charted to show time required to perform them by months or weeks.

e. A resume for each of the key personnel to be assigned to the program. At a minimum, each resume must include: the individual's current employment status and previous work experience, including position title, duties performed, dates in position, employing organizations and educational background. Duties must be clearly defined in terms of role performed, e.g., manager, team leader, consultant, etc. (Resumes must be included as attachments, which do not count against the page limitation).

f. The special capabilities of staff that demonstrate prior experience in organization, managing and performing similar efforts.

g. The current employment status of key personnel proposed for work under the cooperative agreement, e.g., whether personnel are currently employed by the organization or whether their employment depends upon planned recruitment or sub-contracting. Note that the key management and professional technical staff members comprising the applicant's proposed team must be individuals who have prior experience with organizations working in similar efforts, and must be fully qualified to perform work specified in the Statement of Work. Where sub-contractors or outside assistance are proposed, organizational control must be clearly delineated to ensure responsiveness to the needs of the USDOL.

5. Leveraging of Funding (5 points). We will give up to five (5) additional rating points to applications that include non-Federal resources that significantly expand the dollar amount, size and scope of the proposal. The applicant may include any leveraging or co-funding anticipated. To be eligible for additional points under this criterion, the applicant must list the source(s) of funds, the nature, and activities anticipated with these funds under this cooperative agreement, and any partnerships, linkages or coordination of activities, and/or cooperative funding.

This stated commitment will be incorporated into the text of the cooperative agreement with the selected applicant(s).

Signed at Washington, DC, this 20th day of June, 2002.
Lawrence J. Kuss,
Grant Officer.

Attachments:

Appendix A: SF 424—Application Form

Appendix B: Budget Information Sheet

BILLING CODE 4510-28-P

[FR Doc. 02-16100 Filed 6-25-02; 8:45 am]

BILLING CODE 4510-28-C